POSTAL SERVICE

Board of Governors; Sunshine Act Meeting

TIMES AND DATES: 1 p.m., Tuesday, May 11, 2004; 9:30 a.m., Wednesday, May 12, 2004.

PLACE: Dallas, Texas, at the Fairmont Hotel, 1717 North Akard Street, in the Pavilion Room.

STATUS: May 11—1 p.m. (Closed); May 12—9:30 a.m. (Open).

MATTERS TO BE CONSIDERED:

Tuesday, May 11—1 p.m. (Closed)

1. Financial Update.

2. Rate Case Planning.

3. Proposed Filing with the Postal Rate Commission for Priority Mail Flat-Rate Box Pricing Experiment.

4. Negotiated Service Agreements.

5. Strategic Planning.

6. Personnel Matters and Compensation Issues.

Wednesday, May 12—9:30 a.m. (Open)

1. Minutes of the Previous Meeting, April 15, 2004.

2. Remarks of the Postmaster General and CEO.

3. Audit and Finance Committee Charter.

4. Capital Investments.

a. Mail Processing Infrastructure Phase 2.

b. Human Capital Enterprise—Human Resources Shared Services.

c. Transaction Concentrator Replacement.

d. Pittsburgh, Pennsylvania, Logistics and Distribution Center.

e. Trenton, New Jersey, Processing and Distribution Center Facility Restoration.

5. Quarterly Report on Service Performance.

6. Quarterly Report on Financial Performance.

7. Southwest Area and Dallas District Report.

8. Tentative Agenda for the June 15, 2004, meeting in Washington, DC.

FOR FURTHER INFORMATION CONTACT: William T. Johnstone, Secretary of the Board, U.S. Postal Service, 475 L'Enfant Plaza, SW., Washington, DC 20260-1000. Telephone (202) 268-4800.

William T. Johnstone,
Secretary.

[FR Doc. 04-10496 Filed 5-4-04; 3:03 pm]

BILLING CODE 7710-12-M